DEPARTMENT OF THE INTERIOR

Bureau of Land Management

[OR-035-06-1430-ER; HAG 06-0150]

Notice of Realty Action; Recreation and Public Purposes Act Classification; Oregon

AGENCY: Bureau of Land Management, Interior.

ACTION: Notice.

SUMMARY: The Bureau of Land Management (BLM) has examined and found suitable for classification for lease or conveyance to the Oregon Department of Parks and Recreation under the provisions of the Recreation and Public Purposes (R&PP) Act, as amended, (43 U.S.C. 869 et seq.) 9.4 acres of public land in Baker County, Oregon. The Oregon Department of Parks and Recreation proposes to use the land as part of the Sumpter Valley Dredge State Heritage Area.

DATES: All comments must be received in writing to the BLM on or before October 10, 2006.

ADDRESSES: Address all written comments concerning this notice to David Henderson, District Manager, Vale District Office, Bureau of Land Management, 100 Oregon Street, Vale, Oregon 97918. Electronic format submittals will not be accepted.

FOR FURTHER INFORMATION CONTACT: Nancy Lull, Baker Field Office, BLM, P.O. Box 947, Baker City, Oregon 97814, 541-523-1337.

SUPPLEMENTARY INFORMATION: The following described public land in Baker County, Oregon, has been examined and found suitable for conveyance for recreational or public purposes under the provisions of the R&PP Act, as amended (43 U.S.C. 869 et seq.), and is hereby classified accordingly.

Willamette Meridian, Oregon,

T. 9 S., R. 37 E.

Sec. 29, lot 14.

The area described contains 9.4 acres in Baker County.

The Oregon Department of Parks and Recreation proposes to include the 9.4 acres as part of the Sumpter Valley Dredge State Heritage Area.

The land is not required for any Federal purpose. Conveyance is consistent with the BLM Baker Field Office Resource Management Plan, dated July 12, 1989, and would be in the public interest. The conveyance, when issued, will be subject to the provisions of the R&PP Act and applicable regulations of the Secretary of the Interior. The following rights, reservations and conditions will be included in the conveyance document:

1. A right-of-way thereon for ditches and canals constructed by the authority of the United States, Act of August 30, 1890 (43 U.S.C. 945).

2. All minerals shall be reserved to the United States, together with the right to prospect for, mine and remove such deposits from the same under applicable law and such regulations as the Secretary of the Interior may prescribe.

3. Any and all reservations that the authorized officer determines appropriate to ensure public access and proper management of Federal lands and interests therein.

4. All valid and existing rights documented on the official public land records at the time of lease issuance or conveyance.

5. A notice and indemnification statement under the Comprehensive Environmental Response, Compensation and Liability Act (42 U.S.C. section 9620) holding the United States harmless from any release of hazardous materials that may have occurred as a result of any authorized or unauthorized use of the property by other parties.

Upon publication of this notice in the Federal Register, the above described land is segregated from all other forms of appropriation under the public land laws, including the general mining laws, except for conveyance under the R&PP Act, leasing under the mineral leasing laws, and disposal under the mineral material disposal laws.

Classification Comments: Interested parties may submit comments regarding the suitability of the land for inclusion into the Sumpter Valley Dredge State Heritage Area. Comments on the classification are restricted to whether the land is physically suited for the proposal, whether the use will maximize the future use or uses of the land, whether the use is consistent with local planning and zoning, or if the use is consistent with State and Federal programs.

Application Comments: Interested parties may submit comments regarding the specific use proposed in the application and plan of development, whether the BLM followed proper administrative procedures in reaching the decision, or any factor not directly related to the suitability of the lands for inclusion in the Sumpter Valley Dredge State Heritage Area.

Comments, including names, street addresses and other contact information of respondents, will be available for public review. Individual respondents may request confidentiality. If you wish to request that the BLM consider withholding your name, street address and other contact information (such as: FAX or phone number) from public review or from disclosure under the Freedom of Information Act, you must state this prominently at the beginning of your comment. The BLM will honor requests for confidentiality on a case-by-case basis to the extent allowed by law. The BLM will make available for public inspection all submissions in their entirety from organizations or businesses and from individuals identifying themselves as representatives or officials of organizations or businesses. Any adverse comments will be reviewed by the State Director who may sustain, vacate, or modify this realty action. In the absence of any adverse comments, classification will become effective on October 24, 2006. The lands will not be offered for conveyance until after the classification becomes effective.

Authority: 43 CFR 2741.5

Dated: July 6, 2006.
Larry Frazier,
Associate District Manager, Vale District.

[FR Doc. E6-14093 Filed 8-24-06; 8:45 am]

BILLING CODE 4310-33-P